DEPARTMENT OF EDUCATION

Proposed Collection; Comment Request

AGENCY: Department of Education.

SUMMARY: The Secretary of Education requests comments on the Free Application for Federal Student Aid (FAFSA) that the Secretary proposes to use for the 2006-2007 award year. The FAFSA is completed by students and their families and the information submitted on the form is used to determine the students' eligibility and financial need for financial aid under the student financial assistance programs authorized under Title IV of the Higher Education Act of 1965, as amended (Title IV, HEA Programs). The Secretary also requests comments on changes under consideration for the 2006-2007 award year FAFSA.

DATES: Interested persons are invited to submit comments on or before May 9, 2005.

ADDRESSES: Comments may be submitted electronically through e-mail to FAFSAComments@ed.gov. Written comments and requests for copies of the proposed information collection requests should be addressed to Joseph Schubart, Department of Education, 400 Maryland Avenue, SW., Potomac Center, 9th Floor, Washington, DC 20202-4700.

In addition, interested persons can access this document on the Internet:

(1) Go to IFAP at http://ifap.ed.gov;

(2) Scroll down to “Publications”.

(3) Click on “FAFSAs and Renewal FAFSAs”;

(4) Click on “By 2006-2007 Award Year”;

(5) Click on “Draft FAFSA Form/Instructions”.

Please note that the free Adobe Acrobat Reader software, version 4.0 or greater, is necessary to view this file. This software can be downloaded for free from Adobe's Web site: http://www.adobe.com

FOR FURTHER INFORMATION CONTACT: Joseph Schubart (202) 245-6566. Individuals who use a telecommunications device for the deaf (TDD) may call the Federal Information Relay Service (FIRS) at 1-800-877-8339 between 8 a.m. and 8 p.m., eastern time, Monday through Friday.

SUPPLEMENTARY INFORMATION: Section 483 of the Higher Education Act of 1965, as amended (HEA), requires the Secretary, “in cooperation with agencies and organizations involved in providing student financial assistance,” to “produce, distribute and process free of charge a common financial reporting form to be used to determine the need and eligibility of a student under” the Title IV, HEA Programs. This form is the FAFSA. In addition, Section 483 authorizes the Secretary to include non-financial data items that assist States in awarding State student financial assistance.

FSA has awarded a Front-End Business Integration contract that will re-engineer the front-end student aid application processes, disbursement processes, funds management, and customer service functions into a single integrated business solution. The first implementation activities are scheduled for January, 2007. For this reason, we propose to make minimal changes to the 2006-2007 FAFSA, and will consider recommendations for improving the FAFSA and the application process in the 2007-2008 development cycle.

The draft 2006-2007 FAFSA (posted to the IFAP Web site) does not propose to add or to delete data elements. The questions appear in the same format and the same order as in 2005-2006. Several changes to the working on the 2006-2007 FAFSA are proposed as follows: (1) Page 1, “Using Your Tax Return” is revised to note that applicants required to file a fax return must do so to receive student aid. (2) Page 2, Under Notes for Questions 43-45, two lines referring to filing on the Web are deleted. (3) Page 2, The paragraph beginning “Investments include * * *” is revised to direct applicants to a Web site for further guidance. (4) Pages 4 and 5, Questions 32 and 70, option “c” is revised to indicate that “I (and my parents) will not file and I am not (my parents are not) requires to file.” (5) Page 8, Worksheet B, item 1, adds the word “voluntary” before “contributions to tax-deferred pension and savings plans.” A more detailed summary of changes is posted on the IFAP Web site. The Secretary requests comments on these proposed changes to wording, as well as suggestions for ways to further simplify the application for students, parents, and schools.

The Secretary is publishing this request for comment under the provisions of the Paperwork Reduction Act of 1995, 44 U.S.C. 3501 et seq. Under that Act, ED must obtain the review and approval of the Office of Management and Budget (OMB) before it may use a form to collect information. However, under procedure for obtaining approval from OMB, ED must first obtain public comment of the proposed form, and to obtain that comment, ED must publish this notice in the Federal Register.

In addition to comments requested above, to accommodate the requirements of the Paperwork Reduction Act, the Secretary is interested in receiving comments with regard to the following matters: (1) Is this collection necessary to the proper functions of the Department (2) will this information be processed and used in a timely manner, (3) is the estimate of burden accurate, (4) how might the Department enhance the quality, utility, and clarity of the information to be collected, and (5) how might the Department minimize the burden of this collection on the respondents, including through the use of information technology.

Dated: March 2, 2005.
Angela C. Arrington,
Leader, Information Management Case Service Team, Regulatory Information Management Services, Office of the Chief Information Officer.

Federal Student Aid

Type of Review: Revision.

Title: Free Application for Federal Student Aid (FAFSA).

Frequency: Annually

Affected Public: Individuals and families.

Annual Reporting and Recordkeeping Hour Burden:

Responses: 14,867,558;

Burden Hours: 7,598,016.

Abstract: The FAFSA collects identifying and financial information about a student applying for Title IV, HEA program funds. This information is used to calculate the student's expected family contribution, which is used to determine a student's financial need. The information is also used for determining a student's eligibility for grants and loans under the Title IV, HEA Program. It is further used for determining a student's eligibility for State and institutional financial aid programs.

Requests for copies of the proposed information collection request may be accessed from http://edicsweb.ed.gov, by selecting the “Browse Pending Collections” link and by clicking on link number 2696. When you access the information collection, click on “Download attachments” to view. Written requests for information should be addressed to U.S. Department of Education, 400 Maryland Avenue, SW., Potomac Center, 9th Floor, Washington, DC 20202-4700. Requests may also be electronically mailed to the Internet address OCIO_RIMG@ed.gov or faxed to (202) 245-6621. Please specify the complete title of the information collection when making your request.

[FR Doc. 05-4391 Filed 3-7-05; 8:45 am]

BILLING CODE 4000-01-M